DEPARTMENT OF STATE

[Public Notice 12050]

Determination Under Section 7012 of the Department of State, Foreign Operations, and Related Programs Appropriations Act, 2023 Relating to Assistance to Yemen

Pursuant to the authority vested in me by section 7012 of the Department of State, Foreign Operations, and Related Programs Appropriations Act, 2023 (Div. K, Pub. L. 117-328) (FY 2023 SFOAA), E.O. 12163, as amended by E.O. 13346, and Department of State Delegation of Authority 513, I hereby determine that assistance for Yemen is in the national interest of the United States and thereby waive, with respect to Yemen, the application of section 7012 of the FY 2023 SFOAA with respect to such assistance.

This determination shall be published in the Federal Register and, along with the accompanying Memorandum of Justification, shall be reported to Congress.

Dated: April 10, 2023.
Richard R. Verma,
Deputy Secretary of State for Management and Resources.

[FR Doc. 2023-08380 Filed 4-19-23; 8:45 am]

BILLING CODE 4710-31-P